DEPARTMENT OF ENERGY

National Energy Technology Laboratory; Notice of Intent to Grant Exclusive Licenses

AGENCY: National Energy Technology Laboratory, DOE.

ACTION: Notice of Intent to Grant Exclusive Licenses.

SUMMARY: This notice is issued in accordance with 35 U.S.C. 209(c)(1) and 37 CFR 404.7(a)(1)(i). The National Energy Technology Laboratory (NETL) hereby gives notice that the Department of Energy (DOE) intends to grant exclusive licenses to practice the inventions described and claimed in U.S. Patent Number 8,907,105, “1,2,3-Triazolium ionic liquids”; U.S. Patent Number 8,906,135, “Method of Purifying a Gas Stream Using 1,2,3-Tirazolium ionic liquids”; U.S. Patent Application Number 14/951,210, “Synthesis and Polymerization of vinyl triazolium ionic liquids”, and International Patent Application Number PCT/US2015/057769, “Ionic, 1,2,3-Triazolium-based, cross linked polymeric films for gas separation” to Liquid Ion Solutions, a small business, having its principal place of business in Pittsburgh, PA. The inventions and patents are owned by United States of America, as represented by DOE. The prospective exclusive licenses comply with the requirements of 35 U.S.C. 209 and 37 CFR 404.7.

DATES: Written comments, objections, or nonexclusive license applications must be received at the address listed below no later than fifteen (15) days after the date of this published Notice. Objections submitted in response to this notice will not be made available to the public for inspection and, to the extent permitted by law, will not be released under the Freedom of Information Act, 5 U.S.C. 552.

ADDRESSES: Comments, applications for nonexclusive licenses, or objections relating to the prospective exclusive license should be submitted to Jessica Sosenko, Technology Transfer Program Manager, U.S. Department of Energy, National Energy Technology Laboratory, P.O. Box 10940, Pittsburgh, PA 15236-0940 or via facsimile to (412) 386-4183.

FOR FURTHER INFORMATION CONTACT: Jessica Sosenko, Technology Transfer Program Manager, U.S. Department of Energy, National Energy Technology Laboratory, P.O. Box 10940, Pittsburgh, PA 15236; Telephone (412) 386-7417; Email: jessica.sosenko@netl.doe.gov.

SUPPLEMENTARY INFORMATION: Section 209(c) of title 35 of the United States Code gives DOE the authority to grant exclusive or partially exclusive licenses in Department-owned inventions where a determination is made, among other things, that the desired practical application of the invention has not been achieved, or is not likely to be achieved expeditiously, under a nonexclusive license. The statute and implementing regulations (37 CFR 404) require that the necessary determinations be made after public notice and opportunity for filing written comments and objections.

Liquid Ion Solutions, a small business, has applied for exclusive licenses to practice the inventions and patents and has plans for commercialization of the inventions and patents. DOE intends to grant the licenses, upon a final determination in accordance with 35 U.S.C. 209(c), unless within 15 days of publication of this notice, NETL's Technology Transfer Manager (contact information listed above), receives in writing any of the following, together with supporting documents:

(i) A statement from any person setting forth reasons why it would not be in the best interest of the United States to grant the proposed license; or

(ii) An application for a nonexclusive license to the invention, in which applicant states that it already has brought the invention to practical application or is likely to bring the invention to practical application expeditiously.

The proposed licenses would be exclusive, subject to a license and other rights retained by the United States, and subject to a negotiated royalty. DOE will review all timely written responses to this notice, and will grant the licenses if, after expiration of the 15-day notice period, and after consideration of any written responses to this notice, a determination is made in accordance with 35 U.S.C. 209(c) that the licenses are in the public interest.

Grace M. Bochenek,
Director, National Energy Technology Laboratory.

[FR Doc. 2016-00890 Filed 1-19-16; 8:45 am]

BILLING CODE P